COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and service(s) from the Procurement List that were furnished by nonprofit agencies employing persons who are blind or have other severe disabilities.

DATES: Date deleted from the Procurement List: August 29, 2021.

ADDRESSES: Committee for Purchase From People Who Are Blind or Severely Disabled, 1401 S. Clark Street, Suite 715, Arlington, Virginia 22202-4149.

FOR FURTHER INFORMATION CONTACT: Michael R. Jurkowski, Telephone: (703) 785-6404, or email CMTEFedReg@AbilityOne.gov.

SUPPLEMENTARY INFORMATION:

Deletions

On 6/25/2021, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following products and service(s) are deleted from the Procurement List:

Product(s)

NSN(s)—Product Name(s):

7520-01-451-9178—Pen, Ballpoint, Retractable, Essential LVX, Black, Medium Point

Designated Source of Supply: Industries for the Blind and Visually Impaired, Inc., West Allis, WI.

Contracting Activity: GSA/FAS ADMIN SVCS ACQUISITION BR(2, NEW YORK, NY

NSN(s)—Product Name(s):

8440-00-000-0000—Belt, Trousers

Designated Source of Supply: Travis Association for the Blind, Austin, TX

Contracting Activity: DLA TROOP SUPPORT, PHILADELPHIA, PA

NSN(s)—Product Name(s):

AF335—Jacket, USAF, Unisex, Cold Weather Waist Length Insulated, Blue, Sizes S thru 2XL

AF340—Turtleneck, USAF, Unisex, Dark Navy Blue, Numerous Sizes

AF330—Jacket, USAF, Waist Length, Unisex, Dark Navy Blue, Numerous Sizes

AF320—Pants, USAF, Unisex, Rain, Dark Navy Blue, Numerous Sizes

AF310—Jacket, USAF, ¾ Length, Unisex, Dark Navy Blue, Numerous Sizes

AF380—Over Pants, USAF, Unisex, Cold Weather, Dark Navy Blue, Numerous Sizes

AF420—Nameplate, Class A, USAF, Metal, Polished Nickel Finish with black Lettering

AF412B—Belt, Class B/Primary Duty, USAF, Unisex, Black Leather, Numerous Sizes

AF411A—Belt, Class A/Primary Duty, USAF, Unisex, Black Leather, Numerous Sizes

AF9440—Badge, USAF, “DEPUTY CHIEF”, Metallic Polished Nickel Finish, 1″x7/8″

AF9450—Badge, USAF, “ASSISTANT TO THE OPERATIONS OFFICER”, Metallic Polished Nickel Finish, 1″x7/8″

AF9460—Badge, USAF, “SHIFT SUPERVISOR”, Metallic Polished Nickel Finish, 1″x7/8″

AF9470—Badge, USAF, “TRAINING SUPERVISOR”, Metallic Polished Nickel Finish, 1″x7/8″

AF9490—Necktie, USAF, Unisex, Dark Navy Blue

AF9483—Insignia, USAF, Collar Chevrons Officer (3 Stripes), USAF Metallic Silver or Polished Nickel Finish

AF9482—Insignia, USAF, Collar Chevrons Officer (2 stripes), USAF, Metallic Silver or Polished Nickel Finish

AF9412—Badge, “Police”, USAF, Nickel Finish, 3″x2″

AF9411—Patch, USAF, Longevity Stripe, Blue and Gold

AF110—Shirt, Class A/Primary Duty, USAF, Men's, Long Sleeve, Dark Navy Blue, Numerous Sizes

AF111—Shirt, Class A/Primary Duty, USAF, Women's, Long Sleeve, Dark Navy Blue, Numerous Sizes

AF9415—Hat Badge, Formal, USAF, Nickel Finish

AF9410P—Patch, “Police”, USAF, Half Size, 3″x2″

AF9414G—Patch, “Guard, USAF, Half Size, 3″x2″

AF9413P—Patch, “Police”, USAF, Full Size, 4″x5/8″

AF9413G—Patch, “Guard”, USAF, Full Size, 4″x5/8″

AF230—Trousers, class B/Utility, USAF, Unisex, Dark Navy Blue, Numerous Sizes

AF220—Shirt, Class B/Utility, USAF, Short Sleeve, Unsex, Dark Navy Blue, Numerous Sizes

AF210—Shirt, Class B/Utility, USAF, Long Sleeve, Unisex, Dark Navy Blue, Numerous Sizes

AF150—Hat, Formal, USAF, Unisex, Dark Navy Blue, S;M;L;XL

AF140—Ballcap, Standard, USAF, Unisex, Dark Navy Blue, M/L;L/XL

AF131—Pants, Class A/Primary Duty, USAF, Women's, Flex Waist, Dark Navy Blue, Numerous Sizes

AF130—Pants, Class A/Primary Duty, USAF, Men's, Flex Waist, Dark Navy Blue, Numerous Sizes

AF120—Shirt, Class A/Primary Duty, USAF, Men's, Short Sleeve, Dark Navy Blue, Numerous Sizes

AF121—Shirt, Class A/Primary Duty, USAF, Women's Short Sleeve, Dark Navy Blue, Numerous Sizes

AF9410—Necktie Bar Clasp, USAF, Metal, Polished Nickel Finish

AF430—Nameplate, Class B, USAF, Cloth, Dark Navy Blue with Silver/Gray Thread Lettering

AF390—Coveralls/Jumpsuit, USAF, Unisex, Lightweight, Dark Navy Blue, Numerous Sizes

AF370—Parka, USAF, Unisex, Cold Weather, Dark Navy Blue, Numerous Sizes

AF350—Fleece Liner, USAF, Unisex, Dark Navy Blue, Liner for Jacket, Numerous Sizes

AF360—Cap, USAF, Unisex, Lined Weather Watch, Dark Navy Blue, One Size Fits All

Designated Source of Supply: Human Technologies Corporation, Utica, NY

Contracting Activity: FA8003 AFICA DD, WRIGHT PATTERSON AFB, OH

NSN(s)—Product Name(s): 2945-00-019-0280—Kit, Fuel & Oil Filter Element

Designated Source of Supply: SVRC Industries, Inc., Saginaw, MI

Contracting Activity: DLA AVIATION, RICHMOND, VA

NSN(s)—Product Name(s): 2540-00-575-8391—Mirror and Bracket Assembly

Designated Source of Supply: The Opportunity Center Easter Seal Facility—The Ala ES Soc, Inc., Anniston, AL

Contracting Activity: DLA LAND AND MARITIME, COLUMBUS, OH

Service(s)

Service Type: Assembly of Food Packet

Mandatory for: Food Packet, Survival, Abandon Ship: NSN 8970-00-299-1365

Designated Source of Supply: National Industries for the Blind, Alexandria, VA

Contracting Activity: DEFENSE LOGISTICS AGENCY, DLA TROOP SUPPORT

Service Type: Prime Vendor support for Foreign Military Sales

Mandatory for: RDECOM Contracting Center—Aberdeen, MD (Off-site: 507 Kent Street, Utica NY), 507 Kent Street, Utica, NY

Designated Source of Supply: Central Association for the Blind & Visually Impaired, Utica, NY

Contracting Activity: DEPT OF THE ARMY, W6QK ACC-APG

Service Type: Assembly of Food Packet

Mandatory for: Defense Supply Center Philadelphia, Philadelphia, PA

Designated Source of Supply: Cincinnati Association for the Blind, Cincinnati, OH

Contracting Activity: DEFENSE LOGISTICS AGENCY, DLA TROOP SUPPORT

Michael R. Jurkowski,
Deputy Director, Business & PL Operations.

[FR Doc. 2021-16278 Filed 7-29-21; 8:45 am]

BILLING CODE 6353-01-P